DEPARTMENT OF HEALTH AND HUMAN SERVICES

National Institutes of Health

Submission for OMB Review; 30-Day Comment Request; The National Diabetes Education Program (NDEP) Comprehensive Evaluation Plan

SUMMARY: Under the provisions of Section 3507(a)(1)(D) of the Paperwork Reduction Act of 1995, the National Institute of Diabetes and Digestive and Kidney Diseases (NIDDK), the National Institutes of Health (NIH) has submitted to the Office of Management and Budget (OMB) a request for review and approval of the information collection listed below. This proposed information collection was previously published in the Federal Register on March 19 2014, pages 15351 and 15351[FR DOC #: 2014-06064], and allowed 60 days for public comment. There was 1 public comment received. The purpose of this notice is to allow an additional 30 days for public comment. The National Institutes of Health may not conduct or sponsor, and the respondent is not required to respond to, an information collection that has been extended, revised, or implemented on or after October 1, 1995, unless it displays a currently valid OMB control number.

Direct Comments To Omb: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments or request more information on the proposed project contact: Ms. Joanne Gallivan, M.S., R.D., Director, National Diabetes Education Program, OCPL, NIDDK, 31 Center Drive, MSC 2560, Bethesda, MD 20892, or call non-toll-free number 301-496-6110, or Email your request, including your address to: joanne_gallivan@nih.gov. Formal requests for additional plans and instruments must be requested in writing.

Proposed Collection: The National Diabetes Education Program (NDEP) Comprehensive Evaluation Plan, 0925-0552, Expiration Date 10/31/2015, REVISION, National Institute of Diabetes and Digestive and Kidney Disease (NIDDK), National Institutes of Health (NIH).

Need and Use of Information Collection: The National Diabetes Education Program (NDEP) is a partnership of the National Institutes of Health (NIH) and the Centers for Disease Control and Prevention (CDC) and more than 200 public and private organizations. The long-term goal of the NDEP is to reduce the burden of diabetes and pre-diabetes in the United States, and its territories, by facilitating the adoption of proven strategies to prevent or delay the onset of diabetes and its complications.

The NDEP evaluation will document the extent to which the NDEP program has been implemented and how successful it has been in meeting program objectives, outlined in the NDEP Strategic Plan. The evaluation relies heavily on data gathered from existing national surveys such as National Health and Nutrition Examination Survey (NHANES), the National Health Interview Survey (NHIS), the Behavioral Risk Factor Surveillance System (BRFSS), among others for this information. This is a continued collection of additional primary data from NDEP target audiences on some key process and impact measures that are necessary to effectively evaluate the program. The audiences targeted by the NDEP include people at risk for diabetes, people with diabetes and their families, and the public.

OMB approval is requested for 3 years. There are no costs to respondents other than their time. The total estimated annualized burden hours are 841.

Estimated Annualized Burden Hours
Type of respondent and instrument | Estimated number of respondents | Estimated number of responses per respondent | Average time per response (in hours) | Estimated total annual burden hours
Adults—Pretest surveys | 25 | 1 | 20/60 | 8
Adults—Surveys | 2500 | 1 | 20/60 | 833

Dated: May 27, 2014.
Ruby N. Akomeah,
Project Clearance Liaison, NIDDK, NIH.

[FR Doc. 2014-13729 Filed 6-11-14; 8:45 am]

BILLING CODE 4140-01-P